FEDERAL HOUSING FINANCE AGENCY

12 CFR Part 1282

RIN 2590-AA49

2012-2014 Enterprise Housing Goals

AGENCY: Federal Housing Finance Agency.

ACTION: Final rule; correction.

SUMMARY: This document reprints, in a more readable format, a table displaying the new benchmark levels for the single-family housing goals for 2012, 2013 and 2014 that originally appeared in the final rule published in the Federal Register on November 13, 2012 entitled “2012-2014 Enterprise Housing Goals.”

DATES: Effective December 20, 2012.

FOR FURTHER INFORMATION CONTACT: Paul Manchester, Principal Economist, (202) 649-3115; Ian Keith, Senior Program Analyst, (202) 649-3114; Office of Housing and Regulatory Policy; Jay Schultz, Senior Economist, (202) 649-3117, Office of National Mortgage Database; Kevin Sheehan, Assistant General Counsel, (202) 649-3086, Office of General Counsel. These are not toll-free numbers. The mailing address for each contact is: Office of General Counsel, Federal Housing Finance Agency, Eighth Floor, 400 Seventh Street SW., Washington, DC 20024. The telephone number for the Telecommunications Device for the Hearing Impaired is (800) 877-8339.

SUPPLEMENTARY INFORMATION:

Summary of Correction

The SUPPLEMENTARY INFORMATION of the final rule establishing the Enterprise housing goals for 2012 through 2014, published on November 13, 2012, at 77 FR 67535, included a table on pages 67536-67537 that displayed the new benchmark levels for the single-family housing goals for 2012, 2013 and 2014. The table's format did not clearly convey that the benchmark levels for 2012 and 2014 are, in fact, the same as the levels for 2013, as indicated in the accompanying discussion and final rule. To clearly indicate the goal levels for 2012 and 2014, the table is being reprinted with the goal levels in the columns for all three years. The newly formatted table is displayed below.

Correction

In FR Doc. 12-27121, appearing on page 67535 in the Federal Register of Tuesday, November 13, 2012, make the following correction. On pages 67536-67537, correct the table to read as follows:

| 2012 | 2013 | 2014
Low-income home purchase goal:
Proposed rule | 20% | 20% | 20%
Final rule | 23% | 23% | 23%
Very-low income home purchase goal:
Proposed rule | 7% | 7% | 7%
Final rule | 7% | 7% | 7%
Low-income areas home purchase subgoal:
Proposed rule | 11% | 11% | 11%
Final rule | 11% | 11% | 11%
Low-income areas home purchase goal:
Proposed rule | 20% | NA | NA
Final rule | 20% | NA | NA
Low-income refinance goal:
Proposed rule | 21% | 21% | 21%
Final rule | 20% | 20% | 20%
Multifamily special affordable goals (low-income units):
Fannie Mae
Proposed rule | 251,000 | 245,000 | 223,000
Final rule | 285,000 | 265,000 | 250,000
Freddie Mac
Proposed rule | 191,000 | 203,000 | 181,000
Final rule | 225,000 | 215,000 | 200,000
Multifamily special affordable subgoals (very low-income units):
Fannie Mae
Proposed rule | 60,000 | 59,000 | 53,000
Final rule | 80,000 | 70,000 | 60,000
Freddie Mac
Proposed rule | 32,000 | 31,000 | 27,000
Final rule | 59,000 | 50,000 | 40,000

Dated: December 11, 2012.
Edward J. DeMarco,
Acting Director, Federal Housing Finance Agency.

[FR Doc. 2012-30481 Filed 12-19-12; 8:45 am]

BILLING CODE 8070-01-P